DEPARTMENT OF COMMERCE

International Trade Administration

A-570-908

Notice of Correction of Initiation of Antidumping Duty Investigation: Sodium Hexametaphosphate from the People's Republic of China

AGENCY: Import Administration, International Trade Administration, Department of Commerce.

EFFECTIVE DATE: March 13, 2007.

FOR FURTHER INFORMATION CONTACT: Erin C. Begnal or Christopher D. Riker, AD/CVD Operations, Office 9, Import Administration, International Trade Administration, U.S. Department of Commerce, 14th Street and Constitution Avenue, NW, Washington, DC 20230; telephone: (202) 482-1442 or (202) 482-3441, respectively.

CORRECTION:

On March 6, 2007, the Department of Commerce (“Department”) published the notice of initiation of the antidumping duty investigation of sodium hexametaphosphate from the People's Republic of China. See Initiation of Antidumping Duty Investigation: Sodium Hexametaphosphate from the People's Republic of China, 72 FR 9926 (March 6, 2007) (“Initiation Notice”). Subsequent to the signature of the Initiation Notice, we identified an inadvertent error in the above-referenced notice.

Specifically, the case number listed in the Initiation Notice was incorrect. It should read A-570-908.

Conclusion

This notice serves solely to correct the case number as it was listed in the Initiation Notice. The Department's findings in the Initiation Notice remain unchanged. This notice is issued and published in accordance with section 777(i) of the Tariff Act of 1930, as amended.

Dated: March 6, 2007.
Stephen J. Claeys,
Deputy Assistant Secretary for Import Administration.

[FR Doc. E7-4501 Filed 3-12-07; 8:45 am]

BILLING CODE 3510-DS-S